DEPARTMENT OF JUSTICE

United States Parole Commission

Public Announcement; Sunshine Act Meeting Pursuant To The Government In the Sunshine Act (Public Law 94-409) [5 U.S.C. 552b]

Date and Time: 10 a.m., Thursday, November 16, 2006.

Place: U.S. Parole Commission, 5550 Friendship Boulevard, 4th Floor, Chevy Chase, Maryland 20815.

Status: Closed—Meeting.

Matters Considered: The following matters will be considered during the closed portion of the Commission's Business Meeting:

Petitions for reconsideration involving five original jurisdiction cases pursuant to 28 CFR 2.27.

Agency Contact: Thomas W. Hutchison, Chief of Staff, United States Parole Commission, (301) 492-5990.

Dated: November 9, 2006.
Rockne Chickinell,
General Counsel, U.S. Parole Commission.

[FR Doc. 06-9218 Filed 11-13-06; 10:24 am]

BILLING CODE 4410-31-M